DEPARTMENT OF COMMERCE

Submission for OMB Review; Comment Request

DOC has submitted to the Office of Management and Budget (OMB) for clearance the following proposal for collection of information under the provisions of the Paperwork Reduction Act (44 U.S.C. chapter 35).

Agency: U.S. Census Bureau.

Title: Survey of Plant Capacity Utilization.

Form Number(s): MQ-C1.

OMB Approval Number: 0607-0175.

Type of Request: Regular submission.

Burden Hours: 38,250 hours.

Number of Respondents: 17,000.

Average Hours Per Response: 2 hours and 15 minutes.

Needs and Uses: The Census Bureau conducts the Survey of Plant Capacity annually to provide information on the use of industrial capacity for manufactured products. Data are gathered from a sample of manufacturing plants in the United States. The survey form collects data on the value of plant production during actual operations and at “full production” and “national emergency production” levels. The Census Bureau mails out survey forms to collect the data. Companies are asked to respond to the survey within 30 days of the initial mailing.

Survey data are used in measuring inflationary pressures and capital flows, in understanding productivity determinants, and in analyzing and forecasting economic and industrial trends. The survey results are used by such agencies as the Federal Reserve Board, Federal Emergency Management Agency, International Trade Administration, and the Department of Defense.

Affected Public: Business or other for-profit organizations.

Frequency: Annually.

Respondent's Obligation: Mandatory.

Legal Authority: Title 13 U.S.C., Section 182.

OMB Desk Officer: Susan Schechter, (202) 395-5103.

Copies of the above information collection proposal can be obtained by calling or writing Madeleine Clayton, Departmental Paperwork Clearance Officer, (202) 482-3129, Department of Commerce, Room 6086, 14th and Constitution Avenue, NW., Washington, DC 20230 (or via the Internet at mclayton@doc.gov).

Written comments and recommendations for the proposed information collection should be sent within 30 days of publication of this notice to Susan Schechter, OMB Desk Officer, Room 10201, New Executive Office Building, Washington, DC 20503.

Dated: July 19, 2001.
Gwellnar Banks,
Management Analyst, Office of the Chief Information Officer.

[FR Doc. 01-18386 Filed 7-23-01; 8:45 am]

BILLING CODE 3510-07-P